DEPARTMENT OF TRANSPORTATION

National Highway Traffic Safety Administration

[U.S. DOT Docket Number NHTSA-2010-0124]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before November 2, 2010.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue, SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue, SE., W52-232, NPO-520, Washington, DC 20590. Ms. Hong's telephone number is (202) 493-0524.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: 49 CFR 575—Consumer Information Regulations (sections 103 and 105) Qualitative Research.

OMB Control Number: Not Assigned.

Form Number: None.

Affected Public: Passenger vehicle tire consumers and tire retailers.

Requested Expiration Date of Approval: Three years from approval date.

Abstract: The Energy Independence and Security Act of 2007 (EISA), enacted in December 2007, included a requirement that the National Highway Traffic Safety Administration (NHTSA) develop a national tire fuel efficiency program to educate consumers about the effect of tires on automobile fuel efficiency, safety and durability. A critical step in developing the consumer information program is to conduct proper market research to understand consumers' knowledge of tire maintenance and performance, understand the tire purchase process from both the consumer and retailer's perspectives, evaluate comprehension of ratings, exploring the clarity, meaningfulness and the likely resulting behaviors, and evaluating the creative and the channels for communication. NHTSA proposes a multi-phased research project to gather the data and apply analyses and results from the project to develop the consumer information program.

Estimated Annual Burden: 107.

Number of Respondents: 73.

NHTSA will conduct two research phases. For the first phase, which this notice addresses, NHTSA will conduct two types of qualitative research. One research project will consist of two (2) focus groups in three (3) cities. Each group will have eight (8) participants and will last two (2) hours for a total of 96 participant hours. For the second research project in this phase, NHTSA will conduct on-site interviews at various tire retailers. NHTSA anticipates 25 respondents with each interview taking 25 minutes for a total of approximately 11 participant hours. The results of this research phase, as well as comments received to a separate notice, that will be published soon, will be used to finalize the content of an online survey NHTSA will conduct in the second research phase.

The estimated annual burden hour for the first phase of research is 107 hours. Based on the Bureau of Labor and Statistics' median hourly wage (all occupations) in the May 2009 National Occupational Employment and Wage Estimates, NHTSA estimates that it will take an average of $15.95 per hour for professional and clerical staff to gather data, distribute and print material. Therefore, the agency estimates that the cost associated with the burden hours is $1,706.65 ($15.95 per hour × 107 burden hours).

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: August 30, 2010.
Gregory A. Walter,
Senior Associate Administrator, Policy and Operations.

[FR Doc. 2010-22011 Filed 9-2-10; 8:45 am]

BILLING CODE 4910-59-P